DEPARTMENT OF DEFENSE

Department of the Army, Corps of Engineers

Intent To Prepare Draft Supplement No. 1 to the Final Environmental Impact Statement [FEIS] for Operation and Maintenance, Arkabutla Lake, Enid Lake, Grenada Lake, and Sardis Lake, Mississippi

AGENCY: U.S. Army Corps of Engineers, Vicksburg District, DOD.

ACTION: Notice of intent.

SUMMARY: The purpose of the proposed action is to evaluate the environmental impacts of the U.S. Army Corps of Engineers proposed continued operation and maintenance activities at Arkabutla Lake, Enid Lake, Grenada Lake, and Sardis Lake, Mississippi.

FOR FURTHER INFORMATION CONTACT: Ms. Ramona Warren (telephone (601) 631-5441), CEMVK-PP-PQ, 4155 Clay Street, Vicksburg, Mississippi 39183-3435.

SUPPLEMENTARY INFORMATION: Arkabutla, Enid, Grenada, and Sardis Lakes are part of a comprehensive plan for flood control on the Yazoo River and its tributaries above the head of the Mississippi River backwater area. These lakes are located in north Mississippi in the Bluff Hills and North Central Hills subprovinces section of the Eastern Hills province of the Central Gulf Coastal plain. The four lakes are located from 25 to 100 miles south of Memphis, Tennessee.

Arkabutla Lake is located in Tate and DeSoto Counties, 25 miles south of Memphis and 12 miles northwest of Coldwater, Mississippi. Enid Lake is located in Yalobusha, Panola, and Lafayette Counties, 72 miles south of Memphis and 26 miles north of Grenada, Mississippi. Grenada Lake is located in Grenada, Calhoun, and Yalobusha Counties, 100 miles south of Memphis and 3 miles northeast of Grenada, Mississippi. Sardis Lake is located in parts of Panola, Lafayette, and Marshall Counties, 50 miles south of Memphis and 11 miles northeast of Batesville, Mississippi.

The Flood Control Acts of 15 May 1938 (Public Law (PL) 391, 70th Congress); 15 May 1928, amended 15 June 1936 (PL-678, 74th Congress); 28 August 1937 (PL-406, 75th Congress); 28 June 1938 (PL-761, 75th Congress); 18 August 1941 (PL-228, 77th Congress); 22 December 1944 (PL-534, 78th Congress); 24 July 1946 (PL-526, 79th Congress); and 27 October 1965 (PL-89-298, 89th Congress) authorized the construction of the Yazoo Headwater Project to control flooding on the four primary tributaries of the Yazoo River. Flood control impoundments were constructed on the Coldwater River (Arkabutla Lake), the Yocona River (Enid Lake), the Yalobusha and Skuna Rivers (Grenada Lake), and the Little Tallahatchie River (Sardis Lake). Also, provisions were included for local stream channel improvements, levee and auxiliary channel construction and appurtenant works as necessary to provide protection from headwater floods of the Yazoo River system.

The Flood Control Act of 1944 authorized the development of recreational facilities at Department of the Army water resource projects. Further provision for the administration of these projects for recreation and fish and wildlife conservation and management was made by three subsequent flood control acts: the Flood Control Act of 1946; the Flood Control Act of 3 September 1954 (PL-780, Title III, Sec. 209, 83d Congress); and the Flood Control Act of 23 October 1962 (PL-87-874), Title II, Sec. 207, 87th Congress). These laws authorized the Government to lease land to private individuals and other government agencies for the development of the recreation and fish and wildlife resources on these projects. They also guaranteed within those limitations established by the Secretary of the Army and the State of Mississippi the public controlled access to shoreline areas for fishing, boating, swimming, and other recreational purposes, and the protection of fish and wildlife resources.

The primary authorized purpose of these lakes is flood control, but many incidental benefits such as navigation, water supply, recreation, fish and wildlife, and timber have been realized. Lands surrounding the lakes are used for public recreation, agricultural production, and conservation of biological resources.

The oldest and largest of the four lakes, Sardis, was begun in June 1937 and completed in October 1940. Construction of Arkabutla Lake was begun in 1940, and the lake was completed in June 1943. Initial construction of Enid Lake began in February 1947, and the lake was completed in December 1952. Grenada Lake was also begun in February 1947, and was completed in January 1954.

The significant issues tentatively identified for evaluation of the environmental impacts of operation and maintenance activities include (1) impacts of flood control storage, (2) impacts of stream channel maintenance, and (3) impacts to resource management.

The National Environmental Policy Act (40 CFR Part 1501, section 1501.7) requires all Federal agencies prior to preparing an EIS or EIS Supplement to conduct a process termed “scoping.” This scoping process determines the issues to be addressed and identifies the significant issues related to a proposed action. To accomplish this, public scoping meetings are tentatively scheduled to be held in Mississippi in September 2000. The Environmental Protection Agency; U.S. Fish and Wildlife Service; Natural Resources Conservation Service; Mississippi Department of Environmental Quality; and Mississippi Department of Wildlife, Fisheries and Parks will be invited to become cooperating agencies. All interested agencies, groups, tribes, and individuals will be sent copies of the Draft Supplemental EIS and FEIS.

The Draft Supplemental EIS is scheduled to be completed in August 2001.

Robert Crear,
Colonel, Corps of Engineers, District Engineer.

[FR Doc. 00-22222 Filed 8-30-00; 8:45 am]

BILLING CODE 3710-PU-M